OFFICE OF THE UNITED STATES TRADE REPRESENTATIVE

2000-2001 Allocation of the Raw Cane Sugar, Refined Sugar, and Sugar Containing Products Tariff-rate Quotas

AGENCY: Office of the United States Trade Representative.

ACTION: Notice.

SUMMARY: The Office of the United States Trade Representative (USTR) is providing notice of the country-by-country allocation of the in-quota quantity of the raw cane sugar, refined sugar, and sugar-containing products tariff-rate quotas for the period that begins October 1, 2000 and ends September 30, 2001.

EFFECTIVE DATE: October 1, 2000.

ADDRESSES: Inquiries may be mailed or delivered to Karen Ackerman, Agricultural Economist, Office of Agricultural Affairs (Room 421), Office of the United States Trade Representatives, 600 17th Street, NW., Washington, DC 20508.

FOR FURTHER INFORMATION CONTACT: Karen Ackerman, Office of Agricultural Affairs, 202-395-6127.

SUPPLEMENTARY INFORMATION: Pursuant to Additional U.S. Note 5 to chapter 17 of the Harmonized Tariff Schedule of the United States (HTS), the United States maintains tariff-rate quotas for imports of raw cane and refined sugar. The Secretary of Agriculture establishes the in-quota quantity the raw cane sugar and refined sugar tariff-rate quotas.

Section 404(d)(3) of the Uruguay Round Agreements Act (19 U.S.C. 3601(d)(3)) authorizes the President to allocate the in-quota quantity of a tariff-rate quota for any agricultural product among supplying countries or customers areas. The President delegated this authority to the United States Trade Representative under paragraph (3) of Presidential Proclamation No. 6763 (60 FR 1007).

Accordingly, a tariff-rate quota quantity for raw cane sugar of 1,117,195 metric tons raw value, the minimum level to which the United States is committed under the Uruguay Round Agreement, is being allocated to the following countries:

Country | FY2001 allocation
Argentina | 45,283
Australia | 87,408
Barbados | 7,372
Belize | 11,584
Bolivia | 8,425
Brazil | 52,700
Colombia | 25,274
Congo | 7,258
Cote d'Ivoire | 7,258
Costa Rica | 15,797
Dominican Republic | 185,346
Ecuador | 11,584
El Salvador | 27,381
Fiji | 9,478
Gabon | 7,258
Guatemala | 50,549
Guyana | 12,637
Haiti | 7,258
Honduras | 10,531
India | 8,425
Jamaica | 11,584
Madagascar | 7,258
Malawi | 10,531
Mauritius | 12,637
Mexico | 7,258
Mozambique | 13,690
Nicaragua | 22,115
Panama | 30,540
Papua New Guinea | 7,258
Paraguay | 7,258
Peru | 43,177
Philippines | 142,169
South Africa | 24,221
St. Kitts & Nevis | 7,258
Swaziland | 16,850
Taiwan | 12,637
Thailand | 14,743
Trinidad-Tobago | 7,372
Uruguay | 7,258
Zimbabwe | 12,637
Total | 1,117,195

These allocations are based on the countries' historical trade to the United States. The allocations of the raw sugar tariff-rate quota to countries that are net importers of sugar are conditioned on receipt of the appropriate verifications.

A tariff-rate quota quantity for refined sugar of 10,300 metric tons raw value (11,354 short tons raw value) is allocated to Canada as a result of an agreement reached with that country. In addition, 2,954 metric tons raw value (3,256 short tons raw value) of refined sugar will be allocated to Mexico. The remainder of the refined sugar tariff-rate quota quantity of 38,000 metric tons raw value will be available on a first-come, first-served basis, including the 17,656 metric tons raw value (19,462 short tons raw value) reserved for specialty sugars.

A quantity of sugar-containing products of 59,250 metric tons (65,312 short tons) of the tariff-rate quota for certain sugar-containing products maintained under “Additional U.S. Note 8 to chapter 17 to the Harmonized Tariff Schedule of the United States” is allocated to Canada as a result of an agreement with Canada. The remainder of the sugar-containing products tariff-rate quota will be available for other countries. Conversion factor: 1 metric ton = 1.10231125 short tons.

USTR is allocating an additional quantity of 105,788 metric tons raw value (116,611 short tons raw value), the quantity which the United States committed to provide to Mexico under the North American Free Trade Agreement (NAFTA), to Mexico.

Charlene Barshefsky,
United States Trade Representatives.

[FR Doc. 00-25106 Filed 9-29-00; 8:45 am]

BILLING CODE 3190-01-M